DEPARTMENT OF THE INTERIOR

Performance Review Board Appointments

AGENCY: Department of the Interior.

ACTION: Notice of Performance Review Board Appointments.

SUMMARY: This notice provides the name of individuals who have been appointed to serve as members of the Department of the Interior Performance Review Board.

DATES: These appointments are effective upon publication in the Federal Register.

FOR FURTHER INFORMATION CONTACT: Marilia Matos, Director, Office of Human Resources, Office of the Secretary, Department of the Interior, 1849 C Street, NW., Washington, DC 20240, Telephone Number: (202) 208-6761.

Dated: October 30, 2006.
Marilia Matos,
Director, Office of Human Resources.

2006 Performance Review Board

The following individuals have been appointed to serve on the Department of the Interior 2006 Performance Review Board:

Ethel Abeita | Director, Office of Trust Records.
David Achterberg | Director, Safety, Security and Law Enforcement.
Kevin Adams | Assistant Director, Law Enforcement.
Martha Aikens | Program Manager.
David Allen | Regional Director, Portland.
William Alley | Senior Science Advisor.
Joseph Alston | Park Manager.
David Applegate | Senior Science Advisor for Earthquakes and Geologic Hazards.
Carl Artman | Associate Solicitor.
Maryanne Bach | Director, Research & Development.
Charles Bacon | Research Geologist.
Anne Badgley | Executive Director—Regional Ecosystems Office.
Karen Baker | Associate Director for Administrative Policy & Services.
Mark Bathrick | Associate Director, Aviation Management.
Theresa Bayani | Program Director for Compliance and Asset Management.
Keith Beartusk | Regional Director.
Mark Beighley | Director, Office of Wildland Fire Coordination.
Richard Beck | Director, Office of Planning and Performance Management.
William Benjamin | Regional Director—Great Plains.
Julio Betancourt | Research Hydrologist.
Henri Bisson | Deputy Director.
John Bennett | Director Trust Program Management Center.
Robert A. Bennett | State Director.
Edith Blackwell | Deputy Associate Solicitor—Indian Affairs.
Stephen Blanchard | Senior Science Advisor for Surface Water.
L. Michael Bogert | Counselor to the Secretary.
David Boore | Research Geophysicist.
Douglas Bourgeois | Director, National Business Center.
Charles Breece | Principal Deputy Director, Office of Hearings & Appeals.
Robert Brown | Associate Director for Administration and Budget.
John Buffington | Regional Director, Western Region.
Melvin Burch | Regional Fiduciary Trust Administrator.
Brenda Burman | Deputy Commissioner.
Kenneth Burnham | Statistician.
Carla Burzyk | Chief, Office of Budget and Performance.
James Byrnes | Attorney-Advisor.
Chad Calvert | Deputy Assistant Secretary—Land and Minerals Management.
Richard Cardinale | Senior Advisor to the Assistant Secretary.
William Carswell | Regional Hydrologist.
Thomas Casadevall | Regional Director, Central Region.
Niles Cesar | Regional Director.
Dolores Chacon-Alleva | President, DOI University.
Ralph Cheng | Research Hydrologist.
Bernard Chouet | Research Geophysicist.
Debbie Clark | Deputy Assistant Secretary—Management.
Horace Clark | Regional Solicitor.
Colleen Coggins | Interior Enterprise Architect.
David Cohen | Deputy Assistant Secretary for Insular Affairs.
Robert Comer | Regional Solicitor.
Anthony Conte | Regional Solicitor.
Elizabeth Cordova-Harrison | Director, Management Services Office.
Robert Craff | Regional Fiduciary Trust Administrator.
Walter Cruickshank | Deputy Director.
Elena Daly | Assistant Director, National Landscape Conservation Systems.
Elmer Danenberger | Chief, Offshore Engineering and Operations Division.
James Davis | Research Hydrologist.
Daniel Deerinwater | Regional Director.
Ivan DeLoatch | Federal Geographic Data Committee Staff Director.
Frank DeLuise | Director, Natural Resources Damage Assessment and Restoration Program.
Lucy Querques-Denett | Associate Director for Minerals Revenue Management.
James Devine | Senior Advisor for Science Application.
Clare Doherty | Deputy Director, Budget.
Douglas Domenech | Deputy Chief of Staff.
Robert Doyle | Deputy Director.
Matthew C. Eames | Director, Congressional and Legislative Affairs.
Sharon Eller | Director, Office of Civil Rights.
Donna Erwin | Principal Deputy Special Trustee.
Max Ethridge | Regional Geographer.
Michael Ferguson | Assistant Director, Business and Fiscal Resources.
Olivia Ferriter | Director, Conservation, Partnership and Management Policy.
Lawrence Finfer | Deputy Director, Office of Policy Analysis.
Daniel Fletcher | Director, Office of Financial Management and Deputy Chief Financial Officer.
Vicki Forrest | Regional Fiduciary Trust Administrator.
Arthur Frankel | Research Geophysicist.
Art Gary | Associate Solicitor—General Law.
Jerold Gidner | Deputy Bureau Director, Tribal Services.
Rick Gold | Regional Director.
Martin Goldhaber | Research Chemist.
John Goll | Regional Director, Alaska OCS Region.
Maria E. Gonzales | Senior Advisor for Collaborative Action and Dispute Resolution.
Roseanne Gonzales-Schreiner | Director, Program and Policy Services.
Rowan Gould | Regional Director—Anchorage.
Clayton Gregory | Regional Director.
Stephen Guptill | Research Physical Scientist.
Samuel Hamilton | Regional Director—Atlanta.
Jeanette Hanna | Regional Director.
Susan Haseltine | Associate Director for Biology.
Abraham Haspel | Assistant Deputy Secretary.
Bruce R. Harris | Deputy Chief Administrative Judge, IBLA.
James Harris | Associate Solicitor—Minerals Resources.
William Hartwig | Chief, National Wildlife Refuge System.
Nina Hatfield | Deputy Assistant Secretary, Business Management and Wildland Fire.
Pamela Haze | Co-Director, Office of Budget.
Lisa Hemmer | Administrative Judge, IBLA.
Paul Henne | Assistant Director, Budget Management and Operations.
Edward Hildreth | Research Geologist.
Catherine Hill | Regional Hydrologist.
David Hill | Research Geophysicist.
Robert Hirsch | Associate Director for Water.
Paul Hoffman | Deputy Assistant Secretary for Performance, Accountability and Human Resources.
Amy Holley | Senior Advisor to the Assistant Secretary.
Wandafa Hollingsworth | Chief, Division of Budget and Program Review.
Brian Holly | Chief Appraiser.
H. Barry Holt | Chief Administrative Judge.
Patricia Hooks | Regional Director, Southeast Region.
David Hughes | Administrative Judge, IBLA.
James Hughes | Deputy Director, Programs and Policy.
Fay Iudicello | Director, Office of Executive Secretariat and Regulatory Affairs.
Richard Iverson | Research Hydrologist.
James Jackson | Administrative Judge.
Julia Jacobsen | Deputy Assistant Secretary—Land and Minerals Management.
Jim James | Regional Fiduciary Trust Administrator.
Christopher Jarvi | Associate Director, Partnerships Interpretation & Education, Volunteers & Outdoor Recreation.
Jonathan Jarvis | Regional Director, Pacific West Region.
Lawrence Jensen | Regional Solicitor.
Bruce A. Johnson | Attorney-Examiner.
Douglas Johnson | Research Statistician.
Lynn Johnson | Regional Solicitor.
Robert Johnson | Regional Director.
Blair Jones | Research Hydrologist.
Kenneth Jones | Chief Scientist for Geography.
Marshall Jones | Deputy Director.
Daniel Jorjani | Counselor to the Deputy Secretary.
Christina Kalavritinos | Administrative Judge, IBLA.
Donna Kalvels | Director, Center for Competitive Sourcing.
Edward Keable | Associate Solicitor, Administration.
Christopher Kearney | Deputy Assistant Secretary for Policy and International Affairs.
M. Franklin Keel | Regional Director.
John Kelmelis | Senior Science Advisor.
Suzette Kimball | Regional Director, Eastern Region.
Jerry Mitch King | Regional Director—Denver.
Stephen Kirby | Research Geophysicist.
Allen Klein | Regional Director.
Leonard Konikow | Research Hydrologist.
Ernestine Kreisher | Director, Office of Communications.
Michael Kruse | Chief Justice.
Robert LaBelle | Deputy Associate Director.
Matthew Larsen | Chief Scientist for Hydrology.
Joseph Lawler | Regional Director, National Capital Region.
Phillip Leahy | Associate Director for Geology.
David Lehman | Senior Advisor to the Secretary.
John Lemon | Director, National Conservation Training Center.
Ronnie Levine | Assistant Director, Information Resources Management.
Suzanne Lewis | Superintendent.
Steven Linscheid | Chief Administrative Judge.
Melinda Loftin | Designated Agency Ethics Official.
Renne Lohoefener | Assistant Director—Endangered Species.
Thomas Lonnie | Assistant Director, Minerals, Realty and Resource Protection.
Douglas Lords | Deputy Special Trustee—Field Operations.
D. Jeffrey Lords | Director, Trust Review and Audit.
Thomas Loveland | Research Physical Scientist.
Samuel Luoma | Research Hydrologist.
Jane Lyder | Legislative Counsel.
Kathryn Lynn | Administrative Judge.
Julie MacDonald | Deputy Assistant Secretary—Fish and Wildlife and Parks.
Pamela Malam | Associate Director for Human Capital.
Stephen Martin | Deputy Director, Internal Management.
Sue Masica | Associate Director, Park Planning, Facilities and Lands.
Marilia Matos | Director, Office of Human Resources.
R. Bryan McDaniel | Administrative Judge, IBLA.
John McDonald | Regional Director.
Robert McKenna | Chief Information Officer.
Edward Meagher | Deputy Chief Information Officer.
David Mech | Research Wildlife Biologist.
Thomas Melius | Assistant Director—External Affairs.
Robert Middleton | Director, Indian Energy Resource Development.
Alan Mikuni | Regional Geographer.
Mary Jane Miller | Budget Officer.
Timothy Miller | Senior Science Advisor—Water Quality.
Paul Milly | Research Hydrologist.
Robert More | Director, Office of Hearings and Appeals.
Ralph Morgenweck | Fish and Wildlife Advisor.
Marvin Moriarty | Regional Director.
Lawrence Morrin | Regional Director.
Michael Nedd | State Director.
James Nichols | Research Wildlife Biologist.
Darrell Nordstrom | Research Hydrologist.
William Normark | Research Geologist.
Michael Olsen | Counselor to the Assistant Secretary.
Brian O'Neill | Park Manager.
Kameran Onley | Assistant Deputy Secretary.
Frederick Ore | Deputy Director, Operations.
Ronald Oremland | Research Hydrologist.
Glenda Owens | Deputy Director.
Emma Pawlicki | Associate Solicitor.
Larry Parkinson | Deputy Assistant Secretary, Law Enforcement and Security.
Mamie Parker | Assistant Director, Fisheries Habitat Conservation.
Edward Parisian | Deputy Director, OIEP.
Drue Pearce | Senior Advisor to the Secretary.
Jason Peltier | Deputy Assistant Secretary—Water and Science.
Zell Peterman | Research Geologist.
Lynn Peterson | Regional Solicitor.
Tim Petty | Deputy Assistant Secretary—Water and Science.
Neil Plummer | Research Hydrologist.
Stanley Ponce | Senior Liaison for Interagency Programs.
Michael Pool | State Director.
Britt Price | Administrative Judge, IBLA.
Robert Quinn | Director, Washington Operations.
Ernest Quintana | Regional Director, Midwest Region.
William Ragsdale | Director, Bureau of Indian Affairs.
Thomas Rever | Director, Facilities, Environmental, Safety and Cultural Resources Management.
Thomas Reynolds | Regional Fiduciary Trust Administrator.
Sterling Rideout | Assistant Director—Program Support.
James Roberts | Administrative Judge, IBLA.
Kirk Rodgers | Regional Director.
Michael Roluti | Senior Advisor, Power Liaison.
Hedy Rossmeissl | Senior Advisor, Info Policy and Services.
Barry Roth | Deputy Associate Solicitor.
Lawrence Ruffin | Chief Information Security Officer.
Catherine Rugen | Regional Fiduciary Trust Administrator.
Linda S. C. Rundell | State Director.
David Russ | Regional Geologist.
Barbara Ryan | Associate Director for Geography.
Michael Ryan | Regional Director, Great Plains.
Robert Rye | Research Geologist.
Carol Sampson | Associate Director for Financial Policy and Operations.
Charles Sandberg | Regional Director.
Daud Santosa | Chief Technical Officer.
Christine Schabacker | Director, Office of Policy Analysis.
Carl Schreck | Research Fishery Biologist.
Paul Schmidt | Assistant Director, Migratory Birds and State Program.
James Scott | Research Wildlife Biologist.
Mary G. Scott | Park Manager (Superintendent).
William Sexton | Regional Hydrologist.
William Shapiro | Research Hydrologist.
David Shearer | Project Director—FBMS.
Denise Sheehan | Assistant Director, Budget, Planning and Human Resources.
Edward Shepard | State Director, Oregon.
Daniel Shillito | Regional Solicitor.
Karen Siderelis | Associate Director for Geographic Information.
Selma Sierra | State Director.
Shayla Simmons | Senior Counsel for CADR.
Jerry Simpson | Assistant Director, Human Capital.
Gary Smith | Director, External and Intergovernmental Affairs.
Gregory Smith | Program Director for RIK.
Michael Smith | Deputy Director, Field Operations.
Paul Smyth | Deputy Associate Solicitor, Land & Water.
Michael Snyder | Regional Director.
Debra Sonderman | Director, Acquisition and Property Management.
Laurence Soderblom | Research Geophysicist.
Michael Soukup | Associate Director, Natural Resources.
Stanley Speaks | Regional Director.
Kenneth Stansell | Assistant Director, International Affairs.
Ross Stein | Research Geophysicist.
Katherine Stevenson | Heritage Education Advisor.
E. Melodee Stith | Associate Director, Acquisition and Financial Asst.
James Tate | Science Advisor to the Secretary.
Willie Taylor | Director, Office of Environmental Policy and Compliance.
Karen Taylor-Goodrich | Associate Director, Visitors & Resource Protection.
Wayne Thatcher | Research Geophysicist.
Kim Thorsen | Director, Office of Law Enforcement and Security.
Robyn Thorson | Regional Director.
Whitney H. Tipton | Chief Information Officer & Director, Office of IRM.
Larry Todd | Deputy Commissioner, Policy, Administration & Budget.
Michael Tollefson | Superintendent.
John Trezise | Co-Director, Office of Budget.
George Triebsch | Associate Director for Policy.
Deborah Tschudy | Deputy Associate Director for Minerals Revenue Management.
Randall Updike | Regional Geologist.
Janine Velasco | Assistant Director, Human Capital.
David Verhey | Deputy Assistant Secretary—Fish and Wildlife and Parks.
Terrance Virden | Regional Director—Midwest.
Brent Wahlquist | Regional Director.
Barbara Wainman | Director, Office of Communication and Outreach.
A. Wesley Ward | Regional Geologist.
Jess Weaver | Regional Hydrologist.
Sandra Weisman | Chief Financial Advisor.
Ronald Wenker | State Director.
Kathleen Wheeler | Deputy Chief Human Capital Officer.
Arthur White | Research Physical Scientist.
Byron Williams | Senior Science Advisor—Coop Research.
Margaret Williams | Deputy Special Trustee—Trust Accountability.
Richard Williams | Research Geologist.
Thomas Winter | Research Hydrologist.
Sarah Wisely | State Director.
Robert Wolf | Director, Program and Budget.
William Woody | Director, Law Enforcement, Security and Protection.
Theodore Woronka | Assistant Director for Finance and Administration.
Elaine Zielinski | State Director.

[FR Doc. E6-20117 Filed 11-27-06; 8:45 am]

BILLING CODE 4310-10-P